DEPARTMENT OF THE TREASURY

Internal Revenue Service

26 CFR Part 1

[TD 9529]

RIN 1545-BK01

Requirements for Taxpayers Filing Form 5472; Correction

AGENCY: Internal Revenue Service (IRS), Treasury.

ACTION: Correction to temporary regulations.

SUMMARY: This document contains corrections to temporary regulations (TD 9529) that were published in the Federal Register on Friday, June 10, 2011 (76 FR 33997) removing the duplicate filing requirement for Form 5472, “Information Return of a 25% Foreign-Owned U.S. corporation or a Foreign Corporation Engaged in a U.S. Trade or Business.”

DATES: This correction is effective on June 24, 2011, and is applicable on June 10, 2011.

FOR FURTHER INFORMATION CONTACT: Gregory A. Spring, (202) 435-5265 (not a toll-free number).

SUPPLEMENTARY INFORMATION:

Background

The temporary regulations that are the subject of this correction are under section 6038A of the Internal Revenue Code.

Need for Correction

As published, temporary regulations (TD 9529) contain errors that may prove to be misleading and are in need of clarification.

Correction of Publication

Accordingly, the publication of the temporary regulations (TD 9529) which were the subject of FR Doc. 2011-14468 is corrected as follows:

1. On page 33998, column 3, in the preamble, under the paragraph heading “Special Analyses”, the last paragraph of the column, first and second lines, the language “It has been determined that this temporary regulation is not a significant” is corrected to read “It has been determined that these temporary regulations are not a significant”.

2. On page 33999, column 1, in the preamble, under the paragraph heading “Special Analyses”, the first paragraph of the column, third and fourth lines, the language “section 7805(f) of the Code, this regulation has been submitted to the” is corrected to read “section 7805(f) of the Code, these regulations have been submitted to the”.

3. On page 33999, column 1, in the preamble, under the paragraph heading “Drafting Information”, sixth line of the paragraph, the language “Department participated in its” is corrected to read “Department participated in their”.

LaNita Van Dyke,
Chief, Publications and Regulations Branch, Legal Processing Division, Associate Chief Counsel (Procedure and Administration).

[FR Doc. 2011-15946 Filed 6-23-11; 8:45 am]

BILLING CODE 4830-01-P